FEDERAL MARITIME COMMISSION

[Docket No. 25-1]

Phillip Marciano LLC, Complainant v. US Cargo Services Inc., Respondent; Notice of Filing of Complaint and Assignment

Served: June 26, 2025.

Notice is given that a complaint has been filed with the Federal Maritime Commission (the “Commission”) by Phillip Marciano LLC (the “Complainant”) against US Cargo Services Inc. (the “Respondent”). Complainant states that the Commission has subject-matter jurisdiction over the complaint pursuant to the Shipping Act of 1984, as amended, 46 U.S.C. 40101 et seq., and personal jurisdiction over Respondent as a common carrier, as this term is defined in 46 U.S.C. 40102.

Complainant Phillip Marciano LLC is a limited liability company existing under the laws of the State of New York with its principal place of business located in New York, New York.

Complainant identifies Respondent US Cargo Services Inc. as a corporation with its principal place of business located in Richmond, Texas.

Complainant alleges that Respondent violated 46 U.S.C. 41102(c) and (d) and 46 CFR 545.5. Complainant alleges these violations arose from a failure to deliver containers as required under the bills of lading, pending payment of charges unrelated to the shipments, and other acts or omissions by Respondent.

An answer to the complaint must be filed with the Commission within 25 days after the date of service.

The full text of the complaint can be found in the Commission's electronic Reading Room at https://www2.fmc.gov/readingroom/proceeding/25-11/. This proceeding has been assigned to the Office of Administrative Law Judges. The initial decision of the presiding judge shall be issued by June 26, 2026, and the final decision of the Commission shall be issued by January 11, 2027.

David Eng,
Secretary.

[FR Doc. 2025-12246 Filed 6-30-25; 8:45 am]

BILLING CODE P